DEPARTMENT OF DEFENSE

Department of the Navy

[Docket ID: USN-2011-0006]

Privacy Act of 1974; System of Records

AGENCY: Department of the Navy, DoD.

ACTION: Notice to Alter a System of Records.

SUMMARY: The Department of the Navy proposes to alter a system of records in its inventory of record systems subject to the Privacy Act of 1974 (5 U.S.C. § 552a), as amended.

DATES: The changes will be effective on June 13, 2011 unless comments are received that would result in a contrary determination.

ADDRESSES: You may submit comments, identified by docket number and/Regulatory Information Number (RIN) and title, by any of the following methods:

• Federal Rulemaking Portal: http://www.regulations.gov. Follow the instructions for submitting comments.

• Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Robin Patterson (202) 685-6545, or Head, PA/FOIA at Department of the Navy, Chief of Naval Operations (DNS-36), 2000 Navy Pentagon, Washington, DC 20350-2000.

SUPPLEMENTARY INFORMATION: The Department of the Navy systems of records notice subject to the Privacy Act of 1974, (5 U.S.C. § 552a), as amended, has been published in the Federal Register and is available from the address above.

The proposed systems reports, as required by 5 U.S.C. 552a (r) of the Privacy Act of 1974, as amended, were submitted on May 9, 2011 to the House Committee on Government Report, the Senate Committee on Homeland Security and Governmental Affairs, and the Office of Management and Budget (OMB) pursuant to paragraph 4c of Appendix I to OMB Circular No. A-130, “Federal Agency Responsibilities for Maintaining Records About Individual,” dated February 8, 1996 (February 20, 1996, 61 FR 6427).

Dated: May 9, 2011.
Morgan F. Park,
Alternate OSD Federal Register Liaison Officer, Department of Defense.

NM06150-7

System name:

Navy-Marine Corps Combat Trauma Registry (CTR) (July 9, 2007, 72 FR 37204).

Changes:

* * * * *

System name:

Delete entry and replace with “Combat Trauma Registry Expeditionary Medical Encounter Database (CTR EMED).”

System location:

Delete entry and replace with “Dept. 161, Naval Health Research Center (NHRC), 140 Sylvester Road, San Diego, CA 92106-3521.”

Categories of individuals covered by the system:

Delete entry and replace with “All injury, disease, psychiatric, and sick call patients (active duty Army, Air Force, Navy, Marine Corps, Coast Guard, Reserve and National Guard,) initially treated at a deployed medical facility during military operations.”

* * * * *

Authority for maintenance of the system:

Delete entry and replace with “10 U.S.C. 5013, Secretary of the Navy; 10 U.S.C. 5041, Headquarters, Marine Corps; OASD/HA Policy 04-031, Coordination of Policy to Establish a Joint Theater Trauma Registry; DoD 6025.18-R, DoD Health Information Privacy Regulation; and E.O. 9397 (SSN), as amended.”

Purpose(s):

Delete entry and replace with “To create, populate, and maintain a computerized database of medical events associated with casualty care. From the point of injury (or disease event) through final rehabilitative outcome(s) for patients sick or injured while deployed; to track persons through the medical chain of evacuation; to relate outcomes with medical care received; and to track active duty personnel initially treated at these facilities throughout the medical chain of evacuation and on through long-term rehabilitative care.”

* * * * *

Policies and practices for storing, retrieving, accessing, retaining, and disposing of records in the systems:

Storage:

Delete entry and replace with “Records may be stored on paper and/or electronic storage media.”

* * * * *

Safeguards:

Delete entry and replace with “Records are located in restricted areas accessible only to authorized personnel that are properly screened, cleared, and trained. Automated information is stored on a DoD password protected network. Automated and manual records are available only to authorized personnel having a need-to-know.”

Retention and disposal:

Delete entry and replace with “Non-Record Copies of Health and Medical Record Files: Destroy when 1 year old or purpose is served, whichever is earlier.

Medical and Development Project Files: Permanent. Offer to National Archives and Records Administration (NARA) when 20 years old.”

* * * * *

System manager(s) and address:

Delete entry and replace with “Policy Official: Commanding Officer, Naval Health Research Center, 140 Sylvester Road, San Diego, CA 92116-3521.

Record Holder: Principal Investigator, CTR Expeditionary Medical Encounter Database, Naval Health Research Center, 140 Sylvester Road, San Diego, CA 92106-3521.”

Notification procedure:

Delete entry and replace with “Individuals seeking to determine whether this system of records contains information about themselves should address written inquiries to the Principal Investigator, CTR Expeditionary Medical Encounter Database, Naval Health Research Center, 140 Sylvester Road, San Diego, CA 92106-3521.

The request should include the individual's full name, Social Security Number (SSN), complete mailing address, and must be signed by the service member requesting the information.

The system manager may require an original signature or a notarized signature as a means of proving the identity of the individual requesting access to the records.”

Record access procedures:

Delete entry and replace with “Individuals seeking access to records about themselves contained in this system of records should address written inquiries to the Principal Investigator, CTR Expeditionary Medical Encounter Database, Naval Health Research Center, 140 Sylvester Road, San Diego, CA 92116-3521.

The request should include the individual's full name, Social Security Number (SSN), complete mailing address, and must be signed by the service member requesting the information.

The system manager may require an original signature or a notarized signature as a means of proving the identity of the individual requesting access to the records.”

* * * * *

Record source categories:

Delete entry and replace with “Individual theater medical registry forms; medical records at Landstuhl Regional Medical Center, Germany (LRMC); National Naval Medical Center, Bethesda (NNMC); autopsy records at Armed Forces Institute of Pathology, Washington, DC (AFIP); Career History Archival Medical and Personnel System (CHAMPS); Civil Composite Health Care System (CHCS); Defense Enrollment Eligibility Reporting System (DEERS); Defense Manpower Data Center (DMDC), Joint Theater Trauma Registry (JTTR); and TRICARE Management Activity (TMA).”

* * * * *

NM06150-7

System name:

Combat Trauma Registry Expeditionary Medical Encounter Database (CTR EMED).

System location:

Dept 161, Naval Health Research Center (NHRC), 140 Sylvester Road, San Diego, CA 92106-3521.

Categories of individuals covered by the system:

All injury, disease, psychiatric, and sick call patients (active duty Army, Air Force, Navy, Marine Corps, Coast Guard, Reserve and National Guard,) initially treated at a deployed medical facility during military operations.

Categories of records in the system:

Demographic and health data related to the injury, disease or psychiatric event incurred. Demographic data includes individual's name, Social Security Number (SSN), rank, unit, date of birth, gender. Event data includes mechanism of injury, personal protective equipment, date and times of injury, and arrival to the treatment facility. Health data includes anatomical location of injury, vital signs, diagnosis, treatment, procedures, operative notes, disposition, outcomes, and quality of life indicators.

Health data are collected from clinical encounters, from the point of injury (or disease event) through long-term rehabilitative care.

Authority for maintenance of the system:

10 U.S.C. 5013, Secretary of the Navy; 10 U.S.C. 5041, Headquarters, Marine Corps; OASD/HA Policy 04-031, Coordination of Policy to Establish a Joint Theater Trauma Registry; DoD 6025.18-R, DoD Health Information Privacy Regulation; and E.O. 9397 (SSN), as amended.

Purpose(s):

To create, populate, and maintain a computerized database of medical events associated with casualty care. From the point of injury (or disease event) through final rehabilitative outcome(s) for patients sick or injured while deployed; to track persons through the medical chain of evacuation; to relate outcomes with medical care received; and to track active duty personnel initially treated at these facilities throughout the medical chain of evacuation and on through long-term rehabilitative care.

Routine uses of records maintained in the system, including categories of users and the purposes of such uses:

In addition to those disclosures generally permitted under 5 U.S.C. 552a(b) of the Privacy Act of 1974, these records contained therein may specifically be disclosed outside the DoD as a routine use pursuant to 5 U.S.C. 552a(b)(3) as follows:

The DoD `Blanket Routine Uses' that appear at the beginning of the Navy's compilation of system of record notices also apply to this system, except as identified below.

Note 1: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

Note 2: Personal identity, diagnosis, prognosis or treatment information of any patient maintained in connection with the performance of any program or activity relating to substance abuse education, prevention, training, treatment, rehabilitation, or research, which is conducted, regulated, or directly or indirectly assisted by any department or agency of the United States, except as provided in 42 U.S.C. 290dd-2, will be treated as confidential and will be disclosed only for the purposes and under the circumstances expressly authorized under 42 U.S.C. 290dd-2. The DoD “Blanket Routine Uses” do not apply to these types of records.

Policies and practices for storing, retrieving, accessing, retaining, and disposing of records in the systems:

Storage:

Records may be stored on paper and/or electronic storage media.

Retrievability:

Individual's name and Social Security Number (SSN).

Safeguards:

Records are located in restricted areas accessible only to authorized personnel that are properly screened, cleared, and trained. Automated information is stored on a DoD password protected network. Automated and manual records are available only to authorized personnel having a need-to-know.

Retention and disposal:

Non-Record Copies of Health and Medical Record Files: Destroy when 1 year old or purpose is served, whichever is earlier.

Medical and Development Project Files: Permanent. Offer to National Archives and Records Administration (NARA) when 20 years old.

System manager(s) and address:

Policy Official: Commanding Officer, Naval Health Research Center, 140 Sylvester Road, San Diego, CA 92116-3521.

Record Holder: Principal Investigator, CTR Expeditionary Medical Encounter Database, Naval Health Research Center, 140 Sylvester Road, San Diego, CA 92106-3521.

Notification procedure:

Individuals seeking to determine whether this system of records contains information about themselves should address written inquiries to the Principal Investigator, CTR Expeditionary Medical Encounter Database, Naval Health Research Center, 140 Sylvester Road, San Diego, CA 92106-3521.

The request should include the individual's full name, Social Security Number (SSN), complete mailing address, and must be signed by the service member requesting the information.

The system manager may require an original signature or a notarized signature as a means of proving the identity of the individual requesting access to the records.

Record access procedures:

Individuals seeking access to records about themselves contained in this system of records should address written inquiries to the Principal Investigator, CTR Expeditionary Medical Encounter Database, Naval Health Research Center, 140 Sylvester Road, San Diego, CA 92116-3521.

The request should include the individual's full name, Social Security Number (SSN), complete mailing address, and must be signed by the service member requesting the information.

The system manager may require an original signature or a notarized signature as a means of proving the identity of the individual requesting access to the records.

Record source categories:

Individual theater medical registry forms; medical records at Landstuhl Regional Medical Center, Germany (LRMC); National Naval Medical Center, Bethesda (NNMC); autopsy records at Armed Forces Institute of Pathology, Washington DC (AFIP); Career History Archival Medical and Personnel System (CHAMPS); Civil Composite Health Care System (CHCS); Defense Enrollment Eligibility Reporting System (DEERS); Defense Manpower Data Center (DMDC), Joint Theater Trauma Registry (JTTR); and TRICARE Management Activity (TMA).

Exemptions claimed for the system:

None.

[FR Doc. 2011-11769 Filed 5-12-11; 8:45 am]

BILLING CODE 5001-06-P